DEPARTMENT OF ENERGY

Federal Energy Regulatory Commission

[Project No. 349-091]

Alabama Power Company; Notice of Availability of Environmental Assessment

March 8, 2005.

An environmental assessment (EA) is available for public review. The EA analyzes the environmental impacts of allowing Harbor Pointe Development to use Martin Dam Project lands for the expansion and renovation of the Harbor Pointe Marina. The project is located on Lake Martin, Tallapoosa River, Tallapoosa County, Alabama. The project is licensed to Alabama Power Company.

The EA was written by staff in the Office of Energy Projects, Federal Energy Regulatory Commission. Commission staff concludes that approving the expansion and renovations would not constitute a major Federal action significantly affecting the quality of the human environment. A copy of the EA is attached to a March 7, 2005 Commission order titled “Order Modifying and Approving Non-Project Use of Project Lands and Waters,” which is available for review at the Commission or on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

If you have any questions regarding this notice, please call Jean Potvin at (202) 502-8928.

Linda Mitry,
Deputy Secretary.

[FR Doc. E5-1082 Filed 3-14-05; 8:45 am]

BILLING CODE 6717-01-P